DEPARTMENT OF TRANSPORTATION

National Highway Traffic Safety Administration

[Docket No. NHTSA-2015-0116]

Agency Request for Approval of a New Information Collection: Recruitment and Debriefing of Human Subjects for Head-Up Displays and Distraction Potential

AGENCY: National Highway Traffic Safety Administration, DOT.

ACTION: Request for public comments on a proposed collection of information.

SUMMARY: The Department of Transportation (DOT) invites public comments about our intention to request Office of Management and Budget (OMB) approval for a new information collection. The information collection involves eligibility, demographic, and debriefing questionnaires. The information will be used to recruit participants for a study on vehicle Head-Up Displays. The proposed study will focus on acceptance and distraction potential of automotive Head-Up Displays.

DATES: Written comments should be submitted by March 4, 2016.

ADDRESSES: You may submit comments identified by Docket No. NHTSA-2015-0116 through one of the following methods:

• Federal eRulemaking Portal: Go to http://www.regulations.gov. Follow the online instructions for submitting comments.

• Mail or Hand Delivery: Docket Management Facility, U.S. Department of Transportation, 1200 New Jersey Avenue SE., West Building Ground Floor, Room W12-140, Washington, DC 20590 between 9 a.m. and 5 p.m. Eastern Time, Monday through Friday, except Federal holidays. Telephone: 202-366-9826.

• Fax: 202-493-2251.

Instructions: All submission must include the agency name and docket number for this proposed collection of information. Note that all comments received will be posted without change to http://www.regulation.gov, including any personal information provided. Please see the Privacy heading below.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.dot.gov/privacy.html.

Docket: For access to the docket to read comments received, go to http://www.regulations.gov, or the street address listed above. Follow the online instructions for accessing the dockets.

FOR FURTHER INFORMATION CONTACT: For access to background documents, contact Julie Kang, Ph.D.; 202-366-5677, Vehicle Safety Research, National Highway Traffic Safety Administration, U.S. Department of Transportation, 1200 New Jersey Avenue SE., Washington, DC, 20590.

SUPPLEMENTARY INFORMATION: Under the Paperwork Reduction Act of 1995, before an agency submits a proposed collection of information to OMB for approval, it must first publish a document in the Federal Register providing a 60-day comment period and otherwise consult with members of the public and affected agencies concerning each proposed collection of information. The OMB has promulgated regulations describing what must be included in such a document. Under OMB's regulation (at 5 CFR 1320.8(d)), an agency must ask for public comment on the following:

(i) Whether the proposed collection of information is necessary for the proper performance of the functions of the agency, including whether the information will have practical utility;

(ii) The accuracy of the agency's estimate of the burden of the proposed collection of information, including the validity of the methodology and assumptions used;

(iii) How to enhance the quality, utility, and clarity of the information to be collected;

(iv) How to minimize the burden of the collection of information on those who are to respond, including the use of appropriate automated, electronic, mechanical, or other technological collection techniques or other forms of information technology, e.g., permitting electronic submission of responses.

In compliance with these requirements, NHTSA asks for public comments on the following proposed collection of information for which the agency is seeking approval from OMB:

OMB Control Number: Not assigned.

Title: Head-Up Displays and Distraction Potential.

Form Numbers: None.

Type of Review: New Information Collection.

Background: Head-Up Display (HUD) technology presents many opportunities and challenges for mitigating driver distraction, improving driver comfort, and engaging drivers with their vehicles. On one hand, the reduction of the distance that the eyes need to travel between the road and a display can minimize the amount of time required to view a display relative to a traditional Head-Down Display (HDD). There is also an added benefit in that peripheral roadway information can be processed while viewing a HUD, allowing some aspects of vehicle control, like lane keeping, to be partially supported. On the other hand, humans have difficulty simultaneously processing two displays overlaid on each other. Viewing HUDs while driving may therefore prevent drivers from perceiving events in the environment, particularly centrally located hazards such as a braking lead vehicle. There is also a concern that HUDs whose focal depth is less than 22 feet require the eyes to accommodate to be viewed. Because older drivers have difficultly accommodating to view these displays, they may take more time to process the displayed information compared to younger drivers. There is also a concern that if drivers perceive HUDs to be safer than HDDs that they may not regulate the length of time they spend looking at the HUD. The HUD may therefore negatively alter drivers' visual scanning behavior. The potential benefits and drawbacks of using a HUD in a vehicle must therefore be investigated.

Description of the Need for the Information and Proposed Use of the Information: The collection of information consists of: (1) An eligibility questionnaire, (2) a demographic questionnaire, and (3) consent form.

The information to be collected will be used as follows:

• Eligibility questionnaire(s) will be used to obtain self-reported eligibility information.

• Demographic questionnaire will be used to obtain demographic information to confirm that the study group includes participants from various groups (e.g., age; gender). Other demographic information will be collected to describe the study sample (e.g., annual travel distance).

• Consent form will be used to inform the participants of the study details.

Respondents: Virginia drivers with a valid driver license.

Estimated Number of Respondents: 60 to 100.

Estimated Number of Responses: Eligibility screening will consist of one response containing 15 questions per respondent. Full participation in the study will include 5 additional responses of 30 questions total per respondent.

Estimated Total Annual Burden: 18 minutes per respondent (35 hours total).

Estimated Frequency: One-time for the eligibility, demographic questionnaire, and consent form.

Table 1—Estimated Burden Hours
Instrument | Number of respondents ¹ | Frequency of responses | Number of questions | Estimated individual burden (minutes) | Total estimated burden hours | Total annualized cost to respondents ²
Eligibility questionnaire | 100 | 1 | 15 | 10 | 17 | $401.67
Demographic questionnaire | 60 | 1 | 8 | 3 | 3 | 72.30
Informed consent | 60 | 1 | 1 | 5 | 5 | 120.50
Total |  |  |  |  | 35 | 843.50
¹ The number of respondents in this table includes drop-out rates.
² Estimated based on the mean hourly rate for Virginia (all occupations) is $24.10 as reported in the May 2013 Occupational Employment and Wage Estimates, Bureau of Labor Statistics. http://www.bls.gov/oes/current/oes_va.htm.

Public Comments Invited: You are asked to comment on any aspect of this information collection, including (a) whether the proposed collection of information is necessary for the Department's performance; (b) the accuracy of the estimated burden; (c) ways for the Department to enhance the quality, utility and clarity of the information collection; and (d) ways that the burden could be minimized without reducing the quality of the collected information. The agency will summarize and/or include your comments in the request for OMB's clearance of this information collection.

Authority: The Paperwork Reduction Act of 1995, 44. U.S.C. Chapter 35, as amended; 5 CFR part 1320; and 49 CFR 1.95.

Issued in Washington, DC on December 7, 2015.
Nathaniel Beuse
Associate Administrator, Vehicle Safety Research.

[FR Doc. 2015-33022 Filed 12-31-15; 8:45 am]

BILLING CODE 4910-59-P